DEPARTMENT OF TRANSPORTATION

Federal Aviation Administration

14 CFR Part 39

[Docket No. FAA-2014-0061; Directorate Identifier 2013-NM-029-AD]

RIN 2120-AA64

Airworthiness Directives; Airbus Airplanes

AGENCY: Federal Aviation Administration (FAA), DOT.

ACTION: Notice of proposed rulemaking (NPRM).

SUMMARY: We propose to supersede airworthiness directive (AD) 2007-06-12, that applies to certain Airbus Model A330-200 and A330-300 airplanes. AD 2007-06-12 requires, for certain airplanes, reinforcement of the structure of the center fuselage by installing external stiffeners (butt straps) at frame (FR) 53.3 on the fuselage skin between left-hand (LH) and right-hand (RH) stringer (STR) 13, and related investigative and corrective actions. Since we issued AD 2007-06-12, we have determined that the compliance times must be reduced in order to address the unsafe condition. This proposed AD would reduce the compliance times for reinforcing the structure of the center fuselage at FR 53.3. We are proposing this AD to prevent fatigue cracking of the fuselage, which could result in reduced structural integrity of the fuselage.

DATES: We must receive comments on this proposed AD by April 14, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0061; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, WA 98057-3356; telephone (425) 227-1138; fax (425) 227-1149.

SUPPLEMENTARY INFORMATION:

Comments Invited

We invite you to send any written relevant data, views, or arguments about this proposed AD. Send your comments to an address listed under the ADDRESSES section. Include “Docket No. FAA-2014-0061; Directorate Identifier 2013-NM-029-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

On March 7, 2007, we issued AD 2007-06-12, Amendment 39-14993 (72 FR 12555, March 16, 2007) (“AD 2007-06-12”). AD 2007-06-12 requires actions intended to address an unsafe condition on the products listed above.

Since we issued AD 2007-06-12, Amendment 39-14993 (72 FR 12555, March 16, 2007), we have determined that the compliance times must be reduced in order to address the unsafe condition. We have also added the compliance time for short- and long-range airplane utilization based on the new fatigue and damage tolerance evaluation. The European Aviation Safety Agency (EASA), which is the Technical Agent for the Member States of the European Community, has issued EASA Airworthiness Directive 2013-0016, dated January 16, 2013 (referred to after this as the Mandatory Continuing Airworthiness Information, or “the MCAI”), to correct an unsafe condition for the specified products. The MCAI states:

During the fatigue tests (EF2) of the Airbus A330 test fuselage, initiation and development of cracks were evidenced at the circumferential joint of frame 53.3.

This condition, if not corrected, could lead to a reduction in the structural integrity of the fuselage.

EASA issued AD 2006-0266 [(http://ad.easa.europa.eu/blob/easa_ad_2006_0266_Superseded.pdf/AD_2006-0266_1), which corresponds to FAA AD 2007-06-12, Amendment 39-14993 (72 FR 12555, March 16, 2007)], which took over the requirements of Direction Générale de L'aviation Civile [DGAC] France AD F-2003-415 for A330-300 pre-mod 41652S11819, and required reinforcement of the circumferential joint of frame 53.3 by application of Airbus Service Bulletin (SB) A330-53-3143 on A330-300 post modification 41652S11819 and pre-mod 49202, and all A330-200 pre-mod 49202 in order to improve the fatigue life.

Since that [EASA] AD was issued, in the frame of a new fatigue and damage tolerance evaluation taking into account the aeroplane utilisation, the thresholds for the reinforcement were reassessed and the conclusion is that some thresholds must be reduced.

For the reason described above, this [EASA] AD retains the requirements of EASA AD 2006-0266, which is superseded, and requires reinforcement of structure of the centre fuselage at the upper circumferential joint of frame 53.3 within the new thresholds.

The initial compliance times range between 15,700 total flight cycles or 94,600 total flight hours, whichever occurs first; and 25,600 total flight cycles or 77,000 total flight hours, whichever occurs first; depending on airplane configuration. You may examine the MCAI in the AD docket on the Internet at http://www.regulations.gov by searching for and locating it in Docket No. FAA-2014-0061.

Relevant Service Information

Airbus has issued Mandatory Service Bulletin A330-53-3127 Revision 02, including Appendix 01, dated December 7, 2011, and Mandatory Service Bulletin A330-53-3143 Revision 05, including Appendix 01, dated May 29, 2012. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Repair Approvals

In many FAA transport ADs, when the service information specifies to contact the manufacturer for further instructions if certain discrepancies are found, we typically include in the AD a requirement to accomplish the action using a method approved by either the FAA or the State of Design Authority (or its delegated agent).

We have recently been notified that certain laws in other countries do not allow such delegation of authority, but some countries do recognize design approval organizations. In addition, we have become aware that some U.S. operators have used repair instructions that were previously approved by a State of Design Authority or a Design Approval Holder (DAH) as a method of compliance with this provision in FAA ADs. Frequently, in these cases, the previously approved repair instructions come from the airplane structural repair manual or the DAH repair approval statements that were not specifically developed to address the unsafe condition corrected by the AD. Using repair instructions that were not specifically approved for a particular AD creates the potential for doing repairs that were not developed to address the unsafe condition identified by the MCAI AD, the FAA AD, or the applicable service information, which could result in the unsafe condition not being fully corrected.

To prevent the use of repairs that were not specifically developed to correct the unsafe condition, certain requirements of this proposed AD would require that the repair approval specifically refer to the FAA AD. This change is intended to clarify the method of compliance and to provide operators with better visibility of repairs that are specifically developed and approved to correct the unsafe condition. In addition, we use the phrase “its delegated agent, or the DAH with State of Design Authority design organization approval, as applicable” in this proposed AD to refer to a DAH authorized to approve certain required repairs for this proposed AD.

Costs of Compliance

We estimate that this proposed AD affects 9 airplanes of U.S. registry.

We estimate the following costs to comply with this proposed AD.

Estimated Costs
Action | Labor cost | Parts cost | Cost per product | Cost on U.S. operators
Installation | Up to 327 work-hour × $85 per hour = $27,795 | $17,850 | Up to $45,645 | Up to $410,805.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2007-06-12, Amendment 39-14993 (72 FR 12555, March 16, 2007), and adding the following new AD:

Airbus: Docket No. FAA-2014-0061; Directorate Identifier 2013-NM-029-AD.

(a) Comments Due Date

We must receive comments by April 14, 2014.

(b) Affected ADs

This AD supersedes AD 2007-06-12, Amendment 39-14993 (72 FR 12555, March 16, 2007).

(c) Applicability

This AD applies to Airbus Model A330-201, -202, -203, -223, and -243 airplanes; and A330-301, -321, -322, -323, -341, -342, and -343 airplanes, certificated in any category, except those on which Airbus modification 49202 has been embodied in production.

(d) Subject

Air Transport Association (ATA) of America Code 53, Fuselage.

(e) Reason

This AD was prompted by a new fatigue and damage tolerance evaluation that concluded the compliance time for an existing reinforcement of the fuselage has to be reduced. We are issuing this AD to prevent fatigue cracking of the fuselage, which could result in reduced structural integrity of the fuselage.

(f) Compliance

Comply with this AD within the compliance times specified, unless already done.

(g) Installation for Model A330-300 Series Airplanes

For Airbus Model A330-301, A330-321, A330-322, A330-323, A330-341, A330-342, and A330-343 airplanes, except those on which Airbus modification 41652S11819 has been incorporated in production: At the time specified in paragraph (g)(1) or (g)(2) of this AD, whichever occurs later, install butt straps at FR53.3 on the fuselage skin between left-hand (LH) and right-hand (RH) stringer (STR) 13, and do all related investigative and corrective actions before further flight. Except as provided by paragraph (h) of this AD, do all actions in accordance with the Accomplishment Instructions of Airbus Mandatory Service Bulletin A330-53-3127, Revision 02, including Appendix 01, dated December 7, 2011.

(1) At the applicable time specified in paragraph (g)(1)(i) or (g)(1)(ii) of this AD.

(i) Airplanes with a short-range mission as specified in Airbus Mandatory Service Bulletin A330-53-3127, Revision 02, dated December 7, 2011: Within 15,300 flight cycles or 46,100 flight hours, whichever occurs first, after the first flight of the airplane.

(ii) Airplanes with a long-range mission as specified in Airbus Mandatory Service Bulletin A330-53-3127, Revision 02, dated December 7, 2011: Within 13,200 flight cycles or 79,300 flight hours, whichever occurs first after the first flight of the airplane.

(2) Within 24 months after the effective date of this AD, but not to exceed 14,700 total flight cycles or 51,400 total flight hours, whichever occurs earlier.

(h) Corrective Actions

For Airbus Model A330-301, -321, -322, -323, -341, -342, and -343 airplanes, except those on which Airbus Modification 41652S11819 has been incorporated in production: If any crack is detected during the related investigative actions (rototest) required by paragraph (g) of this AD, before further flight, repair using a method approved by the Manager, International Branch, ANM-116, Transport Airplane Directorate, FAA; or the EASA (or its delegated agent, or by the Design Approval Holder (DAH) with EASA design organization approval). For a repair method to be approved, the repair approval must specifically refer to this AD.

(i) Installation for Model A330-200 and -300 Series Airplanes

For airplanes specified in paragraph (c) of this AD on which Airbus modification 41652S11819 has been embodied in production: At the time specified in paragraph (i)(1) or (i)(2) of this AD, whichever occurs later, install butt straps at FR53.3 on the fuselage skin between LH and RH STR13; and do all related investigative and other specified actions before further flight, as applicable. Do all actions in accordance with the Accomplishment Instructions of Airbus Mandatory Service Bulletin A330-53-3143, Revision 05, dated May 29, 2012, including Appendix 1; except, if any crack is detected during a related investigative action (rototest), before further flight, repair the crack using a method approved by the Manager, International Branch, ANM 116, Transport Airplane Directorate, FAA; or the EASA (or its delegated agent, or by the Design Approval Holder (DAH) with EASA design organization approval). For a repair method to be approved, the repair approval must specifically refer to this AD.

(1) At the applicable times specified in the “threshold” column of the table in 1.E. “Compliance” of Airbus Mandatory Service Bulletin A330-53-3143, Revision 05, dated May 29, 2012. Where paragraph 1.E. “Compliance” of Airbus Mandatory Service Bulletin A330 53-3143, Revision 05, dated May 29, 2012, specifies a time in the “threshold” column, this AD requires compliance within the corresponding times after the first flight of the airplane.

(2) Within 24 months after the effective date of this AD, but not to exceed 17,600 total flight cycles or 61,600 total flight hours, whichever occurs earlier.

(j) Credit for Previous Actions

(1) This paragraph provides credit for actions required by paragraphs (g) of this AD if those actions were performed before the effective date of this AD using Airbus Service Bulletin A330-53-3127, Revision 01, including Appendix 01, dated November 21, 2003 (which is not incorporated by reference in this AD).

(2) This paragraph provides credit for actions required by paragraph (i) of this AD if those actions were performed before the effective date of this AD using any service information specified in paragraphs (j)(2)(i) through (j)(2)(v) of this AD; this service information is not incorporated by reference in this AD.

(i) Airbus Mandatory Service Bulletin A330-53-3143, including Appendix 01, dated December 24, 2004.

(ii) Airbus Mandatory Service Bulletin A330-53-3143, Revision 01, including Appendix 01, dated June 29, 2006.

(iii) Airbus Mandatory Service Bulletin A330-53-3143, Revision 02, including Appendix 01, dated August 31, 2010.

(iv) Airbus Mandatory Service Bulletin A330-53-3143, Revision 03, including Appendix 01, dated March 3, 2011.

(v) Airbus Mandatory Service Bulletin A330-53-3143, Revision 04, including Appendix 01, dated December 6, 2011.

(k) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, WA 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD. AMOCs approved previously for AD 2007-06-12, Amendment 39-14993 (72 FR 12555, March 16, 2007), are approved as AMOCs for the corresponding provisions of paragraph (i) of this AD.

(2) Airworthy Product: For any requirement in this AD to obtain corrective actions from a manufacturer, use these actions if they are FAA-approved. Corrective actions are considered FAA-approved if they were approved by the State of Design Authority (or its delegated agent, or the DAH with a State of Design Authority's design organization approval). You are required to ensure the product is airworthy before it is returned to service.

(l) Related Information

(1) Refer to Mandatory Continuing Airworthiness Information (MCAI) EASA Airworthiness Directive 2013-0016, dated January 16, 2013, for related information. This MCAI may be found in the AD docket on the Internet at http://www.regulations.gov by searching for and locating Docket No. FAA-2014-0061.

(2) For service information identified in this AD, contact Airbus SAS, Airworthiness Office—EAL, 1 Rond Point Maurice Bellonte, 31707 Blagnac Cedex, France; telephone +33 5 61 93 36 96; fax +33 5 61 93 45 80; email airworthiness.A330-A340@airbus.com; Internet http://www.airbus.com. You may view this service information at the FAA, Transport Airplane Directorate, 1601 Lind Avenue SW., Renton, WA. For information on the availability of this material at the FAA, call 425-227-1221.

Issued in Renton, Washington, on February 14, 2014.
Jeffrey E. Duven,
Manager, Transport Airplane Directorate, Aircraft Certification Service.

[FR Doc. 2014-04259 Filed 2-26-14; 8:45 am]

BILLING CODE 4910-13-P